DEPARTMENT OF VETERANS AFFAIRS

[OMB Control No. 2900-0208]

Agency Information Collection Activity: Architect-Engineer Fee Proposal and Contractor Production Report

AGENCY: Procurement Policy and Warrant Management Service (PPS), Office of Procurement Policy, Systems and Oversight, Office of Acquisition and Logistics, Department of Veterans Affairs.

ACTION: Notice.

SUMMARY: Procurement Policy and Warrant Management Service, Office of Procurement Policy, Systems and Oversight, Office of Acquisition and Logistics, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before December 31, 2024.

ADDRESSES: Comments must be submitted through www.regulations.gov.

FOR FURTHER INFORMATION CONTACT:

Program-Specific information:

VA PRA information: Forrest Browne, 202-632-9677, forrest.browne@va.gov; Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, PPS invites comments on: (1) whether the proposed collection of information is necessary for the proper performance of PPS's functions, including whether the information will have practical utility; (2) the accuracy of PPS's estimate of the burden of the proposed collection of information; (3) ways to enhance the quality, utility, and clarity of the information to be collected; and (4) ways to minimize the burden of the collection of information on respondents, including through the use of automated collection techniques or the use of other forms of information technology.

Title: VA Form 6298, Architect-Engineer Fee Proposal, and VA Form 10101, Contractor Production Report.

OMB Control Number: 2900-0208. https://www.reginfo.gov/public/do/PRASearch (Once at this link, you can enter the OMB Control Number to find the historical versions of this Information Collection).

Type of Review: Revision of a currently approved collection.

Abstract: VA Form 6298, Architect-Engineer Fee Proposal. The use of this form is mandatory for obtaining the proposal and supporting cost or pricing data from the contractor and its subcontractor(s) for all architect-engineer (A-E) contracts and orders for design services when the total contract value is estimated to be $50,000 or more. It is also used in obtaining proposals and supporting cost or pricing data for architect engineer services for research study, seismic study, master planning study, construction management, and other related services contracts. VA Form 10101, Contractor Production Report. VA Resident Engineers monitor contractors' work and verify the work progress reported before payment can be made. The requirement for this information is contained in VA Acquisition Regulation Clause 852.236-79.

Affected Public: Individuals and households.

Estimated Annual Burden: 11,810 hours.

Estimated Average Burden per Respondent: 264 minutes.

Frequency of Response: On occasion.

Estimated Number of Respondents: 644.

Authority: 44 U.S.C. 3501 et seq.

Maribel Aponte,
VA PRA Clearance Officer, Office of Enterprise and Integration/Data Governance Analytics, Department of Veterans Affairs.

[FR Doc. 2024-25402 Filed 10-31-24; 8:45 am]

BILLING CODE 8320-01-P